DEPARTMENT OF HOMELAND SECURITY

Federal Emergency Management Agency

44 CFR Part 65

[Docket No. FEMA-B-7745]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
North Carolina:
Alamance | City of Burlington (06-04-BY00P) | May 15, 2007, May 22, 2007, The Times-News | The Honorable Stephen M. Ross, Mayor of the City of Burlington, P.O. Box 1358, 425 South Lexington Avenue, Burlington, North Carolina 27215 | August 20, 2007 | 370002
Dare | Town of Nags Head (07-04-4138P) | June 21, 2007, June 28, 2007, The Coastland Times | Mr. Charles L. Cameron, Manager, Town of Nags Head, P.O. Box 99, 5401 South Croatan Highway, Nags Head, North Carolina 27959 | June 13, 2007 | 375356
Dare | Unincorporated Areas of Dare County (07-04-4138P) | June 21, 2007, June 28, 2007, The Coastland Times | Mr. Terry Wheeler, Manager, Dare County, P.O. Drawer 1000, 211 Budleigh Street, Manteo, North Carolina 27954 | June 13, 2007 | 375348
Durham | City of Durham (07-04-2980P) | August 14, 2007, August 21, 2007, The Herald-Sun | The Honorable William V. Bell, Mayor of the City of Durham, Office of the Mayor, 101 City Hall Plaza, Durham, North Carolina 27701 | August 7, 2007 | 370086
Durham | Unincorporated Areas of Durham County (07-04-2980P) | August 14, 2007, August 21, 2007, The Herald-Sun | Mr. Michael M. Ruffin, Manager, Durham County, 200 East Main Street, 2nd Floor, Old Courthouse, Durham, North Carolina 27701 | August 7, 2007 | 370085
Orange | Unincorporated Areas of Orange County (06-04-C141P) | July 31, 2007, August 7, 2007, Chapel Hill Herald | Mr. Moses Carey, Jr., Chairman of the Orange County, Board of Commissioners, 200 South Cameron Street, Hillsborough, North Carolina 27278 | November 5, 2007 | 370342
Union | Town of Indian Trail (06-04-BX22P) | May 15, 2007, May 22, 2007, The Enquirer Journal | The Honorable Sandy Moore, Mayor of the Town of Indian Trail, P.O. Box 2430, Indian Trail, North Carolina 28079 | August 21, 2007 | 370235
Union | Unincorporated Areas of Union County (06-04-BX22P) | May 15, 2007, May 22, 2007, The Enquirer Journal | Mr. Mike Shalati, Manager, Union County, 500 North Main Street, Room 925, Monroe, North Carolina 28112 | August 21, 2007 | 370234
Wake | Town of Wake Forest (07-04-0615P) | August 2, 2007, August 9, 2007, The Wake Weekly | The Honorable Vivian A. Jones, Mayor of the Town of Wake Forest, 401 Elm Avenue, Wake Forest, North Carolina 27587 | November 7, 2007 | 370244

(Catalog of Federal Domestic Assistance No. 97.022, “Flood Insurance.”)
Dated: October 29, 2007.
David I. Maurstad,
Federal Insurance Administrator of the National Flood Insurance Program, Department of Homeland Security, Federal Emergency Management Agency.

[FR Doc. E7-21597 Filed 11-1-07; 8:45 am]

BILLING CODE 9110-12-P